DEPARTMENT OF COMMERCE

Bureau of the Census

[Docket Number 180415374-8374-01]

Current Mandatory Business Surveys

AGENCY: Bureau of the Census, Department of Commerce.

ACTION: Notice of determination.

SUMMARY: The Bureau of the Census (U.S. Census Bureau) has determined that it is conducting the following current mandatory business surveys in 2018: Annual Retail Trade Survey, Annual Wholesale Trade Survey, Service Annual Survey, Report of Organization, Manufacturers' Unfilled Orders Survey, Annual Capital Expenditures Survey, Business Research and Development (R&D) Survey, and the Business and Professional Classification Report. We have determined that data collected from these surveys are needed to aid the efficient performance of essential governmental functions and have significant application to the needs of the public and industry. The data derived from these surveys, most of which have been conducted for many years, are not publicly available from nongovernmental or other governmental sources.

ADDRESSES: The Census Bureau will make available the reporting instructions to the organizations included in the surveys. Additional copies are available upon written request to the Director, 4600 Silver Hill Road, U.S. Census Bureau, Washington, DC 20233-0101.

FOR FURTHER INFORMATION CONTACT: Nick Orsini, Assistant Director for Economic Programs, U.S. Census Bureau, 4600 Silver Hill Road, 5H160, Washington, DC 20233, Telephone: 301-763-2558; Email: Nick.Orsini@census.gov.

SUPPLEMENTARY INFORMATION: The surveys described herein are authorized by Title 13, United States Code (U.S.C.), Sections 131, 182 and 193 and are necessary to furnish current data on the subjects covered by the major censuses. These surveys are made mandatory under the provisions of Sections 224 and 225 of Title 13, U.S.C. These surveys will provide continuing and timely national statistical data for the period between economic censuses. The data collected in the surveys will be within the general scope and nature of those inquiries covered in the economic census. The next economic census will be conducted in 2018 for the reference year 2017.

Annual Retail Trade Survey

The Annual Retail Trade Survey collects data on annual sales, sales tax, e-commerce sales, year-end inventories held inside and outside the United States, total operating expenses, purchases, and accounts receivable from a sample of employer firms with establishments classified in retail trade as defined by the North American Industry Classification System (NAICS). These data serve as a benchmark for the more frequent estimates compiled from the Monthly Retail Trade Survey. During the 2017 survey year that will be collected in 2018, this survey will additionally collect detailed operating expenses data. These items are collected once every 5 years.

Annual Wholesale Trade Survey

The Annual Wholesale Trade Survey collects data on annual sales, e-commerce sales, year-end inventories held both inside and outside of the United States, method of inventory valuation, total operating expenses, purchases, gross selling value, and commissions from a sample of employer firms with establishments classified in wholesale trade as defined by the NAICS. These data serve as a benchmark for the more frequent estimates compiled from the Monthly Wholesale Trade Survey. During the 2017 survey year that will be collected in 2018, this survey will additionally collect detailed operating expenses and sales tax data. These items are collected once every five years. These additional questions are only applicable to the merchant wholesale establishments, excluding manufacturers' sales branches and offices.

Service Annual Survey

The Service Annual Survey collects annual data on total revenue, select detailed revenue, total and detailed expenses, and e-commerce revenue for a sample of businesses in the service industries. These industries include Utilities; Transportation and Warehousing; Information; Finance and Insurance; Real Estate and Rental and Leasing; Professional, Scientific, and Technical Services; Administration and Support and Waste Management and Remediation Services; Educational Services; Health Care and Social Assistance; Arts, Entertainment, and Recreation; Accommodation and Food Services; and Other Services as defined by the NAICS. These data serve as a benchmark for the more frequent estimates compiled from the Quarterly Services Survey.

Report of Organization

The Report of Organization collects annual data on ownership or control by a domestic or foreign parent and ownership of foreign affiliates. This includes research and development, company activities such as employees from a professional employer organization, operational status, mid-March employment, first-quarter payroll, and annual payroll of establishments from a sample of multi-establishment enterprises in order to update and maintain a centralized, multipurpose business register. For survey year 2017 that will be collected in 2018, the Report of Organization will be conducted in conjunction with the 2017 Economic Census, as has been done for previous economic censuses. During this year, the universe of multi-establishment companies will receive Report of Organization inquiries.

Manufacturers' Unfilled Orders Survey

The Manufacturers' Unfilled Orders Survey collects annual data on sales and unfilled orders in order to provide annual benchmarks for unfilled orders for the monthly Manufacturers' Shipments, Inventories, and Orders (M3) survey. The Manufacturers' Unfilled Orders Survey data are also used to determine whether it is necessary to collect unfilled orders data for specific industries on a monthly basis, as some industries are not requested to provide unfilled orders data in the M3 Survey.

Annual Capital Expenditures Survey

The Annual Capital Expenditures Survey collects annual data on the amount of business expenditures for new and used structures and equipment from a sample of non-farm, non-governmental companies, organizations, and associations. Both employer and nonemployer companies are included in the survey. The data are the sole source of investment in buildings and other structures, machinery, and equipment by all private nonfarm businesses in the United States, by the investing industry, and by kind of investment. Every five years, detailed data by types of structures and types of equipment are collected from companies with employees. These detailed data will be collected for the 2017 reference year, which began with data collection in March 2018.

Business Research and Development Survey

The Business Research and Development Survey (BRDS) collects annual data on spending for research and development activities by businesses. This survey replaced the Survey of Industrial Research and Development that had been collected since the 1950s. The BRDS collects global as well as domestic spending information, more detailed information about the R&D workforce, and information regarding intellectual property from U.S. businesses. The Census Bureau collects and compiles this information in accordance with a joint project agreement between the National Science Foundation (NSF) and the Census Bureau. The NSF posts the joint project's information results on its website. Beginning in 2018, and for the 2017 reference year, the BRDS will no longer collect R&D and innovation statistics from micro businesses, or firms with less than 5 employees. Additionally, the BRDS will no longer collect data on innovation. This information will now be collected through a new collection called the Annual Business Survey.

Business and Professional Classification Report

The Business and Professional Classification Report collects one-time data on a firm's type of business activity from a sample of newly organized employer firms. The data are used to update the sampling frames for our current business surveys to reflect these newly opened establishments. Additionally, the business classification data will help ensure businesses are directed to complete the correct report in the economic census.

Paperwork Reduction Act

Notwithstanding any other provision of law, no person is required to respond to, nor shall a person be subject to a penalty for failure to comply with a collection of information subject to the requirements of the Paperwork Reduction Act (PRA) unless that collection of information displays a currently valid Office of Management and Budget (OMB) control number. In accordance with the PRA, 44 U.S.C., Chapter 45, OMB approved the surveys described in this notice under the following OMB control numbers: Annual Retail Trade Survey, 0607-0013; Annual Wholesale Trade Survey, 0607-0195; Service Annual Survey, 0607-0422; Report of Organization, 0607-0444; Manufacturers' Unfilled Orders Survey, 0607-0561; Annual Capital Expenditures Survey, 0607-0782; Business R&D and Innovation Survey, 0607-0912; and Business & Professional Classification Report, 0607-0189.

Based upon the foregoing, I have directed that the current mandatory business surveys be conducted for the purpose of collecting these data.

Dated: May 15, 2018.
Ron S. Jarmin,
Associate Director for Economic Programs, performing the non-exclusive functions and duties of the Director, Bureau of the Census.

[FR Doc. 2018-10759 Filed 5-18-18; 8:45 am]

BILLING CODE 3510-07-P